NEIGHBORHOOD REINVESTMENT CORPORATION

Sunshine Act Meeting; Corporate Administration Committee, Board of Directors

TIME AND DATE: 2:00 p.m., Thursday, May 24, 2012.

PLACE: 1325 G Street NW., Suite 800, Boardroom, Washington, DC 20005.

STATUS: Open.

CONTACT PERSON FOR MORE INFORMATION: Erica Hall, Assistant Corporate Secretary, (202) 220-2376; ehall@nw.org.

AGENDA:

I. Call to Order

II. Executive Session

III. Employee Performance Management System Consult

IV. Policy Changes

V. Human Resources Updates

VI. Washington, DC Office Lease Update

VII. Annual Report Board Memberships—Officers and Board Appointees

VIII. Board Elections and Appointments

IX. Adjournment

Erica Hall,
Assistant Corporate Secretary.

[FR Doc. 2012-12046 Filed 5-15-12; 11:15 am]

BILLING CODE 7570-02-P